DEPARTMENT OF JUSTICE

Notice of Lodging of Settlement Agreement Under the Comprehensive Environmental Response Compensation and Liability Act (CERCLA) and the Resource Conservation and Recovery Act (RCRA)

Notice is hereby given that on January 21, 2003, a proposed Settlement Agreement in In re: Laclede Steel Company, Case No. 01-48321-399 was lodged with the United States Bankruptcy Court for the Eastern District of Missouri.

In this action the United States sought future response costs associated with the release or threatened release of hazardous substances at Laclede's Alton, Illinois mill and injunctive relief in the form of compliance with all Resource Conservation and Recovery Act (“RCRA”) corrective action and closure and post-closure care requirements applicable to the facility. The Settlement Agreement provides that Laclede will sell the Facility to Alton Steel Company for $1,000,000. These funds will be placed in a trust to be used by Alton Steel to perform clean-up activities at the site according to an agreed order of priorities and under the supervision of the U.S. Environmental Protection Agency and Illinois Environmental Protection Agency. Laclede will also pay the United States $100,000 to be placed in a Superfund special account.

Under the Settlement Agreement, Laclede will transfer its RCRA part B permit (“RCRA Permit”) to Alton Steel, and Alton Steel will perform closure and corrective action work and take other steps required in the Agreement to bring the Alton mill back into compliance with the RCRA Permit. Alton Steel will receive a covenant not to sue under CERCLA Sections 106 and 107 and RCRA Section 7003 for “existing contamination” at the Site. Alton Steel will also receive a covenant not to sue under RCRA Section 3008(h) so long as it remains in compliance with the compliance plan. Finally, Laclede will assign its rights under any applicable insurance policies to Alton Steel, and Alton Steel will seek to recover under such policies, with the proceeds to be used in remediating the Facility.

The Department of Justice will receive for a period of thirty (30) days from the date of this publication comments relating to the Settlement Agreement. Comments should be addressed to the Assistant Attorney General, Environment and Natural Resources Division, P.O. Box 7611, U.S. Department of Justice, Washington, DC 20044-7611, and should refer to In re: Laclede Steel Company, D.J. Ref. 90-7-1-07324/1. Commenters may request an opportunity for a public meeting in the affected area, in accordance with Section 7003(d) of RCRA, 42 U.S.C. 6973(d).

The Settlement Agreement may be examined at the Office of the United States Attorney, 111 South 10th Street, 20th Floor, St. Louis, Missouri, and at U.S. EPA Region 5, 77 West Jackson Boulevard, Chicago, IL 60604. A copy of the Settlement Agreement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $15.00 (25 cents per page reproduction cost) payable to the U.S. Treasury.

William D. Brighton,
Assistant Chief, Environmental Enforcement Section, Environment and Natural Resources Division.

[FR Doc. 03-2833 Filed 2-5-03; 8:45 am]

BILLING CODE 4410-15-M